DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Populations.

Time and Date: 8:30 a.m. to 5:30 p.m., May 22, 2003; 8:30 a.m. to 5:30 p.m., May 23, 2003.

Place: J.D. Morgan Athletics Center, The Press Room, UCLA Athletics, 325 Westwood Plaza, Los Angeles, CA 90095.

Status: Open.

Purpose: The Subcommittee on Populations. NCVHS, is holding a hearing to discuss issues relating to statistics for the determination of health disparities in racial and ethnic populations. The focus will be on issues related to the collection and use of data on race and ethnicity for Asian American, Native Hawaiian, and Pacific Islander populations. Invited panelists will address methodologic issues (e.g., misclassification, small area analysis, confidentiality concerns) on the collection of data on race and ethnicity, use of mixed race data, language issues, measurement of ethnic identity, and perspectives on variables beyond race and ethnicity needed to determine health disparities in racial and ethnic groups.

FOR FURTHER INFORMATION CONTACT: Additional information about this meeting as well as summaries of past meetings and a roster of committee members may be obtained from Audrey L. Burwell, Office of Minority Health, 1101 Wooton Parkway, 6th Floor, Room 600, Rockville, Maryland 20852, telephone: (301) 443-9923, e-mail alburwell@osophs.dhhs.gov; or Marjorie S. Greenberg, Executive Secretary, NCVHS, National Center for Health Statistics, Centers for Disease Control and Prevention, Room 2413, 3311 Toledo Road, Hyattsville, Maryland 20782, telephone: (301) 458-4245. Information also is available on the NCVHS home page of the HHS Web site: http://www.ncvhs.hhs.gov/ where an agenda and more details about participation in the meeting or Subcommittee deliberations will be posted when available.

Dated: May 1, 2003.
James Scanlon,
Acting Director, Office of Science and Data Policy, Office of the Assistant Secretary for Planning and Evaluation.

[FR Doc. 03-11407 Filed 5-07-03; 8:45 am]

BILLING CODE 4151-05-M